DEPARTMENT OF COMMERCE

International Trade Administration

[A-351-832]

Notice of Rescission of Antidumping Duty Administrative Review: Carbon and Certain Alloy Steel Wire Rod From Brazil

AGENCY: Import Administration, International Trade Administration, Department of Commerce.

EFFECTIVE DATE: December 16, 2004.

FOR FURTHER INFORMATION CONTACT: Constance Handley or David Neubacher, at (202) 482-0631 or (202) 482-5823, respectively, AD/CVD Operations, Office 1, Import Administration, International Trade Administration, U.S. Department of Commerce, 14th Street & Constitution Avenue, NW., Washington, DC 20230.

SUPPLEMENTARY INFORMATION:

Background

In accordance with 19 CFR 351.213(b), on October 29, 2004, the domestic interested parties ¹ requested an administrative review of the antidumping duty order on carbon and certain alloy steel wire rod from Brazil. On November 19, 2004, in accordance with 19 CFR 351.221(c)(1)(i), the Department of Commerce (the Department) published the initiation of an administrative review of this order for the period October 1, 2003, through September 30, 2004. See Initiation of Antidumping and Countervailing Duty Administrative Reviews, 69 FR 67701 (November 19, 2004). On November 30, 2004, the domestic interested parties timely withdrew their request for this review.

¹ The domestic interested parties include ISG Georgetown Inc., Gerdau Ameristeel US Inc., and Keystone Consolidated Industries, Inc.

Rescission of Review

The Department's regulations at 19 CFR 351.213(d)(1) provide that the Department will rescind an administrative review if the party that requested the review withdraws their request for review within 90 days of the date of publication of the notice of initiation of the requested review, or withdraws their request at a later date if the Department determines that it is reasonable to extend the time limit for withdrawing the request. The domestic interested parties withdrew their request within the 90-day period and were the only party to request this review. Accordingly, we are rescinding this review. The Department will issue appropriate assessment instructions to U.S. Customs and Border Protection within 15 days of publication of this notice.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is issued and published in accordance with 19 CFR 351.213(d)(4) and section 777(i)(1) of the Tariff Act of 1930, as amended.

Dated: December 10, 2004.
Barbara E. Tillman,
Acting Deputy Assistant Secretary for Import Administration.

[FR Doc. E4-3681 Filed 12-15-04; 8:45 am]

BILLING CODE 3510-DS-P